DEPARTMENT OF AGRICULTURE

Federal Crop Insurance Corporation

7 CFR Part 457

Common Crop Insurance Regulations

CFR Correction

In Title 7 of the Code of Federal Regulations, Parts 400 to 699, revised as of January 1, 2005, in § 457.8, on page 101, under “Definitions” remove the first definition of Approved yield.

[FR Doc. 05-55516 Filed 11-3-05; 8:45 am]

BILLING CODE 1505-01-D